DEPARTMENT OF THE TREASURY

Office of the Comptroller of the Currency

Agency Information Collection Activities: Submission for OMB Review; Comment Request

AGENCY: Office of the Comptroller of the Currency (OCC), Treasury.

ACTION: Submission for OMB review; comment request.

SUMMARY: The OCC, as part of its continuing effort to reduce paperwork and respondent burden, invites the general public and other Federal agencies to take this opportunity to comment on a continuing information collection, as required by the Paperwork Reduction Act of 1995. The OCC may not conduct or sponsor, and a respondent is not required to respond to, an information collection that has been extended, revised, or implemented unless it displays a currently valid Office of Management and Budget (OMB) control number. Currently, the OCC is soliciting comments concerning an extension, without change, of an information collection titled Bank Activities and Operations—12 CFR 7. The OCC also gives notice that it has sent the information collection to OMB for review.

DATES: You should submit your written comments to both OCC and the OMB Reviewer by March 6, 2000.

ADDRESSES: You should send your written comments to the Communications Division, Attention: 1557-0204, Third Floor, Office of the Comptroller of the Currency, 250 E Street, SW, Washington, DC 20219. In addition, you can send comments by facsimile transmission to (202) 874-5274, or by electronic mail to regs.comments@occ.treas.gov.

FOR FURTHER INFORMATION CONTACT: You may request additional information, a copy of the collection, or a copy of the supporting documentation submitted to OMB by contacting Jessie Dunaway or Camille Dixon, (202) 874-5090, Legislative and Regulatory Activities Division (1557-0200), Office of the Comptroller of the Currency, 250 E Street, SW, Washington, DC 20219.

SUPPLEMENTARY INFORMATION: The OCC is proposing to extend OMB approval of the following information collection:

Title: Bank Activities and Operations—12 CFR 7.

OMB Number: 1557-0204.

Form Number: None.

Abstract: This submission covers an existing regulation and involves no change to the regulation or to the information collections embodied in the regulation. The OCC requests only that OMB renew its approval of the information collections in the current regulation.

National banks need these collections of information to ensure that they conduct their operations in a safe and sound manner and in accordance with applicable federal banking statutes and regulations. The collections of information provide needed information for examiners and provide protections for national banks. The collections of information are necessary for regulatory and examination purposes and for national banks to ensure their compliance with federal law and regulations.

The information requirements in 12 CFR part 7 are located as follows:

12 CFR 7.1000(d)(1) (Lease financing of public facilities): The lease agreement must provide that the lessee will become the owner of the building or facility upon the expiration of the lease.

12 CFR 7.1014 (Sale of money orders at nonbanking outlets): The written agreement between a national bank and bonded agent to sell the bank's money orders at a nonbanking outlet should define the responsibilities of both parties, set forth their respective duties, and provide for remuneration of the agent.

12 CFR 7.2000(b) (Other sources of guidance for corporate governance procedures): A national bank shall designate in its bylaws the body of law selected for its corporate governance procedures.

12 CFR 7.2004 (Honorary directors or advisory boards): Any listing of a national bank's honorary or advisory directors (who act in advisory capacities without voting power or the power of final decision in matters concerning bank business) must distinguish between them and the bank's board of directors, or indicate their advisory status.

12 CFR 7.2014(b) (Indemnification of institution-affiliated parties in administrative proceedings or civil actions not initiated by a federal banking agency): A national bank shall designate in its bylaws the body of law selected for making indemnification payments in administrative proceedings or civil actions not initiated by a federal banking agency.

National banks use the information to ensure their compliance with applicable federal banking law and regulations. Further, the collections of information evidence bank compliance with various regulatory requirements. This information assists bank management in the safe and sound operation of the bank. The OCC uses the information in the conduct of bank examinations and as an audit tool to verify bank compliance with law and regulations.

Type of Review: Extension, without change, of a currently approved collection.

Affected Public: Businesses or other for-profit.

Number of Respondents: 1,600.

Total Annual Responses: 1,600.

Frequency of Response: On occasion.

Estimated Total Annual Burden: 480 burden hours.

OCC Contact: Jessie Dunaway or Camille Dixon, (202) 874-5090, Legislative and Regulatory Activities Division, OMB No. 1557-0142, Office of the Comptroller of the Currency, 250 E Street SW, Washington, DC 20219.

OMB Reviewer: Alexander Hunt, (202) 395-7340, Paperwork Reduction Project 1557-0204, Office of Management and Budget, Room 10226, New Executive Office Building, Washington, DC 20503.

COMMENTS: Your comment will become a matter of public record. You are invited to comment on:

(a) Whether the collection of information is necessary for the proper performance of the functions of the agency, including whether the information has practical utility;

(b) Whether the OCC's burden estimate is accurate;

(c) Ways to enhance the quality, utility, and clarity of the information to be collected;

(d) Ways to minimize the burden of the collection on respondents, including through the use of automated collection techniques or other forms of information technology; and

(e) Whether the OCC's estimates of the capital or startup costs and costs of operation, maintenance, and purchase of services to provide information are accurate.

Dated: January 28, 2000.
Mark J. Tenhundfeld,
Assistant Director, Legislative & Regulatory Activities Division.

[FR Doc. 00-2400 Filed 2-2-00; 8:45 am]

BILLING CODE 4810-33-P